DEPARTMENT OF TRANSPORTATION

Federal Aviation Administration

Notice of Intent To Rule on Request To Release Airport Property at Fort Worth Meacham International Airport

AGENCY: Federal Aviation Administration (FAA), DOT.

ACTION: Notice of Request to Release Airport Property.

SUMMARY: The FAA proposes to rule and invite public comment on the release of land at Fort Worth Meacham International Airport under the provisions of section 125 of the Wendell H. Ford Aviation Investment Reform Act for the 21st Century (AIR 21).

DATES: Comments must be received on or before March 16, 2001.

ADDRESSES: Comments on this application may be mailed or delivered to the FAA at the following address: Mr. Mike Nicely, Manager, Federal Aviation Administration, Southwest Region, Airports Division, Texas Airports Development Office, Fort Worth, Texas 76193-0650.

In addition, one copy of any comments submitted to the FAA must be mailed or delivered to Ms. Lisa Pyles, Aviation Director, City of Fort Worth at the following address: Fort Worth Meacham International Airport, Aviation Department, 4201 North Main Street, Suite 200, Fort Worth, Texas 76106-2749.

FOR FURTHER INFORMATION CONTACT: Mr. Mike Nicely, Federal Aviation Administration, TEXAS Airports Development Office, ASW-650, 2601 Meacham Boulevard, Fort Worth, Texas 76193-0650.

The request to release property may be reviewed in person at this same location.

SUPPLEMENTARY INFORMATION: The FAA invites public comment on the request to release property at the Fort Worth Meacham International Airport under the provisions of the AIR-21.

On February 12, 2001, the FAA determined that the request to release property at Fort Worth Meacham International Airport submitted by the city of Fort Worth met the procedural requirements of the Federal Aviation Regulations, Part 155. The FAA may approve the request, in whole or in part, no later than April 12, 2001.

The following is a brief overview of the request: The city of Fort Worth requests the release of 3.25 acres of airport property. The release of property will allow for the construction of a new intersection of North Main Street and the extension of Meacham Boulevard. The fair market value of the land to be released is estimated to provide $250,000 to Aviation Fund for airfield improvement projects.

Any person may inspect the request in person at the FAA office listed above under FOR FURTHER INFORMATION CONTACT.

In addition, any person may, upon request, inspect the application, notice and other documents germane to the application in person at the Fort Worth Meacham International Airport.

Issued in Fort Worth, Texas on February 12, 2001.
Naomi L. Saunders,
Manager, Airports Division.

[FR Doc. 01-5139 Filed 3-1-01; 8:45 am]

BILLING CODE 4910-13-M